DEPARTMENT OF THE TREASURY

Comptroller of the Currency

Agency Information Collection Activities: Submission for OMB Review; Comment Request

AGENCY: Office of the Comptroller of the Currency (OCC), Treasury.

ACTION: Notice and request for comment.

SUMMARY: The OCC, as part of its continuing effort to reduce paperwork and respondent burden, invites the general public and other Federal agencies to take this opportunity to comment on a continuing information collection, as required by the Paperwork Reduction Act of 1995. An agency may not conduct or sponsor, and a respondent is not required to respond to, an information collection unless it displays a currently valid Office of Management and Budget (OMB) control number. The OCC is soliciting comment concerning its information collection titled, “Risk-Based Capital Standards—Advanced Capital Adequacy Framework.” The OCC also gives notice that it has sent the information collection to OMB for review.

DATES: Comments must be submitted on or before November 23, 2009.

ADDRESSES: You should direct your comments to: Communications Division, Office of the Comptroller of the Currency, Public Information Room, Mail Stop 2-3, Attention: 1557-0234, 250 E Street, SW., Washington, DC 20219. In addition, comments may be sent by fax to (202) 874-5274, or by electronic mail to regs.comments@occ.treas.gov. You may personally inspect and photocopy comments at the OCC, 250 E Street, SW., Washington, DC. For security reasons, the OCC requires that visitors make an appointment to inspect comments. You may do so by calling (202) 874-4700. Upon arrival, visitors will be required to present valid government-issued photo identification and submit to security screening in order to inspect and photocopy comments.

Additionally, you should send a copy of your comments to: OCC Desk Officer [1557-0234], by mail to the Office of Information and Regulatory Affairs, U.S. Office of Management and Budget, New Executive Office Building, Room 10235, 725 17th Street, NW., Washington, DC 20503, or by fax to (202) 395-6974.

FOR FURTHER INFORMATION CONTACT: You can request additional information or a copy of the collection from Mary H. Gottlieb, OCC Clearance Officer, (202) 874-5090, Legislative and Regulatory Activities Division, Office of the Comptroller of the Currency, 250 E Street, SW., Washington, DC 20219.

SUPPLEMENTARY INFORMATION: The OCC is proposing to extend without change approval of the following information collection:

Title: Risk-Based Capital Standards—Advanced Capital Adequacy Framework.

OMB Control No.: 1557-0234.

Frequency of Response: Annually and quarterly.

Affected Public: National banks and Federal branches and agencies of foreign banks.

Number of Respondents: 52.

Number of Responses per Respondent: 24.

Total Number of Responses: 1,248.

Burden per Respondent: 15,570 hours.

Total Estimated Annual Burden: 809,640 hours.

General Description of Report: This information collection is mandatory: 12 U.S.C. 93a, 161, 3907-3909. The written implementation plan and prior approvals are given confidential treatment: 5 U.S.C. 552 (b)(8).

Abstract: On December 7, 2007, the Federal banking agencies ¹ issued a joint final rule titled Risk-Based Capital Standards: Advanced Capital Adequacy Framework (final rule) implementing a new risk-based regulatory capital framework for institutions in the United States.² The final rule requires certain large or internationally active banks and bank holding companies to: (1) Adopt a written implementation plan; (2) update that plan for any mergers; (3) obtain prior written approvals for the use of certain approaches for determining risk-weighted assets; and (4) make certain public disclosures regarding their capital ratios, their components, and information on implicit support provided to a securitization. The required reporting forms have been approved under OMB Control No. 1557-0239.

¹ Board of Governors of the Federal Reserve System; Federal Deposit Insurance Corporation; and Office of Thrift Supervision.

² 72 FR 69288 (December 7, 2007).

Request for Comment

The Federal banking agencies issued a 60-day notice for comment on July 17, 2009. 74 FR 34865. No comments were received. Comments continue to be invited on:

(a) Whether the collection of information is necessary for the proper performance of the functions of the agency, including whether the information has practical utility;

(b) The accuracy of the agency's estimate of the burden of the collection of information;

(c) Ways to enhance the quality, utility, and clarity of the information to be collected;

(d) Ways to minimize the burden of the collection on respondents, including through the use of automated collection techniques or other forms of information technology; and

(e) Estimates of capital or startup costs and costs of operation, maintenance, and purchase of services to provide information.

Dated: October 15, 2009.
Michele Meyer,
Assistant Director, Legislative and Regulatory Activities Division.

[FR Doc. E9-25327 Filed 10-21-09; 8:45 am]

BILLING CODE 4810-33-P